ENVIRONMENTAL PROTECTION AGENCY

40 CFR Part 52

[EPA-R05-OAR-2011-0347; FRL-9677-2]

Approval and Promulgation of Air Quality Implementation Plans; Wisconsin; Milwaukee-Racine Nonattainment Area; Determination of Attainment for the 2006 24-Hour Fine Particle Standard

AGENCY: Environmental Protection Agency (EPA).

ACTION: Proposed rule; extension of public comment period.

SUMMARY: EPA is extending the comment period for a proposed rule published April 24, 2012 (77 FR 24436). On April 24, 2012, EPA proposed to approve a determination of attainment for the Milwaukee-Racine, Wisconsin area for the 2006 24-hour fine particle National Ambient Air Quality Standard submitted by the State of Wisconsin on March 7, 2011. In response to a May 1, 2012, request from David C. Bender, EPA is extending the comment period for 30 days.

DATES: The comment period for the proposed rule published April 24, 2012 (77 FR 24436) is being extended for 30 days to June 25, 2012.

ADDRESSES: Submit comments, identified by Docket ID No. EPA-R05-OAR-2011-0347, to: Douglas Aburano, Chief, Attainment Planning and Maintenance Section, Air Programs Branch (AR-18J), U.S. Environmental Protection Agency, Region 5, 77 West Jackson Boulevard, Chicago, Illinois 60604, aburano.douglas@epa.gov. Additional instructions to comment can be found in the notice of proposed rulemaking published April 24, 2012 (77 FR 24436).

FOR FURTHER INFORMATION CONTACT: Gilberto Alvarez, Environmental Scientist, Attainment Planning and Maintenance Section, Air Programs Branch (AR-18J), U.S. Environmental Protection Agency, Region 5, 77 West Jackson Boulevard, Chicago, Illinois 60604, (312) 886-6143, alvarez.gilberto@epa.gov.

Dated: May 11, 2012.
Susan Hedman,
Regional Administrator, Region 5.

[FR Doc. 2012-12509 Filed 5-22-12; 8:45 am]

BILLING CODE 6560-50-P